DEPARTMENT OF ENERGY

Federal Energy Regulatory Commission

[Docket No. PF12-7-000; Docket No. PF12-17-000]

Jordan Cove Energy Project LP, Pacific Connector Gas Pipeline LP; Notice of Extension of Comment Period and Additional Public Scoping Meetings for the Jordan Cove Liquefaction and Pacific Connector Pipeline Projects

This notice announces the extension of the public scoping process and comment period for Jordan Cove Energy Project LP's (Jordan Cove) proposed liquefaction project in Coos County, Oregon, in Docket No. PF12-7-000, and Pacific Connector Gas Pipeline LP's (Pacific Connector) proposed pipeline project crossing portions of Klamath, Jackson, Douglas, and Coos Counties, Oregon, in Docket No. PF12-17-000. In addition to extending the scoping period, the Commission staff will conduct two additional public scoping meetings, with dates and times to be announced at a later date. Please note that the scoping period will now close on October 29, 2012.

On August 2, 2012, the Federal Energy Regulatory Commission (FERC or Commission), in cooperation with the U.S. Department of Agriculture Forest Service (Forest Service), and the U.S. Department of the Interior Bureau of Land Management (BLM), issued a Notice of Intent to Prepare an Environmental Impact Statement for the Planned Jordan Cove Liquefaction and Pacific Connector Pipeline Projects, Requests for Comments on Environmental Issues, and Notice of Public Scoping Meetings (NOI). The NOI solicited comments on the potential environmental impacts of the proposed projects and announced the time and location of four public meetings. The environmental comments received will allow the staffs of the Commission, Forest Service, and BLM to focus attention on issues important to the public during our preparation of an Environmental Impact Statement (EIS) for the projects.

You can attend any of the scoping meetings to provide verbal comments.¹ In lieu of or in addition to providing comments at the meetings, you can submit written comments to the Commission. In order for your written comments to be considered and addressed in the EIS, they should be properly filed with the Commission. There are three methods you can use to submit your comments to the FERC. In all instances, please reference the docket numbers for these projects (PF12-7-000 and PF12-17-000) with your submission.

¹ Verbal comments at the public scoping meetings will be transcribed by a court reporter and placed into the public record for these proceedings.

(1) You can file your comments electronically using the eComment feature located on the Commission's Web site (www.ferc.gov) under the Documents & Filings link. This is an easy method for interested persons to submit brief, text-only comments on a project;

(2) You can file your comments electronically using the eFiling feature located on the Commission's Web site (www.ferc.gov) under the Documents & Filings link. With eFiling, you can provide comments in a variety of formats by attaching them as a file with your submission. New eFiling users must first create an account by clicking on “eRegister.” You must select the type of filing you are making. If you are filing a comment on a particular project, please select “Comment on a Filing;” or

(3) You can file a paper copy of your comments by mailing them to the following address: Kimberly D. Bose, Secretary, Federal Energy Regulatory Commission, 888 First Street NE., Room 1A, Washington, DC 20426.

If you have questions about electronic filings with the FERC, feel free to call our information technology experts at FERC Online Support at 202-502-6652 or email ferconlinesupport@ferc.gov; or 202-502-8258 or email efiling@ferc.gov.

Dated: August 28, 2012.
Kimberly D. Bose,
Secretary.

[FR Doc. 2012-21658 Filed 8-31-12; 8:45 am]

BILLING CODE 6717-01-P